ENVIRONMENTAL PROTECTION AGENCY

[EPA-HQ-OPP-2008-0722; FRL-8385-2]

Notice of Receipt of Requests to Voluntarily Cancel Certain Pesticide Registrations and Amend to Terminate Certain Uses

AGENCY: Environmental Protection Agency (EPA).

ACTION: Notice.

SUMMARY: In accordance with section 6(f)(1) of the Federal Insecticide, Fungicide, and Rodenticide Act (FIFRA), as amended, EPA is issuing a notice of receipt of requests by the registrants to voluntarily cancel and amend their registrations to terminate uses of certain products. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Unless a request is withdrawn by November 7, 2008, orders will be issued canceling these registrations. The Agency will consider withdrawal requests postmarked no later than November 7, 2008. Comments must be received on or before November 7, 2008.

ADDRESSES: Submit your comments, identified by docket identification (ID) number EPA-HQ-OPP-2008-0722, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2008-0722. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT:

Product Manager | Pesticides | Office Location for Mail and Special Courier | Telephone Number | E-mail Address
Susan Bartow | ETO, methamidophos | Special Review and Registration Div. Office of Pesticide Programs (7508P) Environmental Protection Agency 1200 Pennsylvania Ave., NW. Washington, DC 20460-0001 | (703) 603-0065 | bartow.susan@epa.gov
Andrea Carone | Thiram | Special Review and Registration Div. Office of Pesticide Programs (7508P) Environmental Protection Agency 1200 Pennsylvania Ave., NW. Washington, DC 20460-0001 | (703) 308-0122 | carone.andrea@epa.gov
Wilhelmena Livingston | Chloroneb, pronamide | Special Review and Registration Div. Office of Pesticide Programs (7508P) Environmental Protection Agency 1200 Pennsylvania Ave., NW. Washington, DC 20460-0001 | (703) 308-8025 | livingston.wilhelmena@epa.gov
Joy Schnackenbeck | Aldicarb | Special Review and Registration Div. Office of Pesticide Programs (7508P) Environmental Protection Agency 1200 Pennsylvania Ave., NW. Washington, DC 20460-0001 | (703) 308-8072 | schnackenbeck.joy@epa.gov

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the appropriate person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and Amend Registrations to Delete Uses

This notice announces receipt by EPA of requests from registrants to cancel 1 and amend to terminate uses of 29 product registrations. Registrants requested EPA to cancel affected product registrations and amend to terminate uses of pesticide product registrations identified in Tables 1 and 2 of Unit III.

III. What Action is the Agency Taking?

This notice announces receipt by EPA of requests from 8 registrants to cancel and amend to terminate uses of a total of 30 product registrations. The affected products and the registrants making the requests are identified in Tables 1-3 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

A request to waive the 180-day comment period has been received for all registrations included in this notice: 000264-00330, 000264-00426, 000264-00729, 000264-00741, 000264-00744, 000264-01020, 000264-AR-81-0044, 000264-AR-87-0007, 000264-CA-79-0188, 000264-MS-81-0014, 000264-MS-81-0055, 010330-00016, 010330-00018, 010330-00021, 036736-00002, 036736-00003, 036736-00004, 036736-00005, 036736-00006, 036736-00007, 036736-00008, 400-434, 045728-00001, 045728-00021, 062719-00391, 062719-00578, 062719-00397, 067470-00006, 067470-00007, and 073782-00002.

Unless a request is withdrawn by the registrant within the 30-day window established in this notice, or if the Agency determines that there are substantive comments that warrant further review of this request, an order will be issued canceling and amending the affected registrations.

Table 1.—Product Registrations With Pending Requests for Cancellation
EPA Registration Number | Product Name | Active Ingredient
073782-00002 | Demosan 65W | Chloroneb

Table 2.—Product Registrations With Pending Requests for Amendment
Registration Number | Product Name | Active Ingredient | Delete From Use
000264-00330 | Temik brand 15 grams (g) aldicarb pesticide | Aldicarb | Alfalfa grown for coffee, ornamentals, pecans, seed, sorghum, sugarcane, tobacco
000264-00426 | Temik brand 15g aldicarb pesticide for sale and use in CA | Aldicarb | Alfalfa grown for coffee, ornamentals, pecans, seed, sorghum, sugarcane, tobacco
000264-00729 | Monitor 4 | Methamidophos | Cotton
000264-00741 | Monitor technical | Methamidophos | Cotton
000264-00744 | Monitor 60% concentrate | Methamidophos | Cotton
000264-01020 | Monitor 4 spray | Methamidophos | Cotton
000264-AR-81-0044 | Monitor 4 | Methamidophos | Cotton
000264-AR-87-0007 | Monitor 4 | Methamidophos | Cotton
000264-CA-79-0188 | Monitor 4 | Methamidophos | Cotton
000264-MS-81-0014 | Monitor 4 | Methamidophos | Cotton
000264-MS-81-0055 | Monitor 4 | Methamidophos | Cotton
010330-00016 | Ethylene oxide 10% and carbon dioxide sterilizing gas | ETO | Basil
010330-00018 | 20% Ethylene oxide and 80% carbon dioxide sterilizing gas | ETO | Basil
010330-00021 | 8.5% Ethylene oxide and carbon dioxide sterilizing gas | ETO | Basil
036736-00002 | Ethylene oxide 100% | ETO | Basil
036736-00003 | Sterilizing gas 3 | ETO | Basil
036736-00004 | Sterilizing gas 4 | ETO | Basil
036736-00005 | Sterilizing gas 5 | ETO | Basil
036736-00006 | Sterilizing gas 6 | ETO | Basil
036736-00007 | Sterilizing gas 8 | ETO | Basil
036736-00008 | Ethylene oxide - MUP | ETO | Basil
045728-00001 | Thiram technical | Thiram | Athletic fields, commercial areas, homeowner fungicide, homeowner turf, parks, sod
045728-00021 | Thiram 75WP fruit, turf, and vegetable fungicide | Thiram | Athletic fields, commercial areas, homeowner fungicide, homeowner turf, parks, sod
400-434 | Thiram 480 DP | Thiram | Athletic fields, commercial areas, homeowner fungicide, homeowner turf, parks, sod
062719-00391 | Kerb 50-W selective herbicide | Pronamide | All residential uses
062719-00397 | Kerb 50-W herbicide in WSP | Pronamide | All residential uses
062719-00578 | Kerb 3.3 SC | Pronamide | All residential uses
067470-00006 | Ethylene oxide | ETO | Basil
067470-00007 | Ethylene oxide 100 R | ETO | Basil

Table 3 of this unit includes the names and addresses of record for the registrants of the products listed in Table 1 and Table 2 of this unit.

Table 3.—Registrants Requesting Voluntary Cancellation and Amendments
EPA Company Number | Company Name and Address
000264 | Bayer Crop Science, LP 2 T.W., Alexander Dr. Research Triangle Park, NC 27709
010330 | Praxair, Inc. 39 Old Ridgebury Rd. Danbury, CT 06810-5113
036736 | Balchem Corporation P.O. Box 600 New Hampton, NY 10958
400 | Chemtura Corporation 199 Benson Rd. Middlebury, CT 06749
045728 | Taminco, Inc. 21320 Sweet Clover Pl. Ashburn, VA 20147
062719 | Dow Agrosciences, LLLC 9330 Zionsville Rd. 308/2e Indianapolis, IN 46268-1054
067470 | Honeywell Specialty Chemicals NIC-4 101 Columbia Rd. Morristown, NJ 07962-1139
073782 | Kincaid, Inc. 2805 North Ridge Dr. P.O. Box 490 Athens, TN 37371

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration

Registrants who choose to withdraw a request for cancellation must submit such withdrawal in writing to the appropriate person listed under FOR FURTHER INFORMATION CONTACT, postmarked before November 7, 2008. This written withdrawal of the request for cancellation will apply only to the applicable FIFRA section 6(f)(1) request listed in this notice. If the products(s) have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

A. Methamidophos

On April 7, 2002, EPA signed the Interim Reregistration Eligibility Decision (IRED) for methamidophos. That IRED specified risk mitigation measures including: “Implement a 5-year phase out of the use on cotton.” In accordance with the IRED, Bayer CropScience has submitted a request to voluntarily terminate all cotton uses of the methamidophos products listed in Table 2 of Unit III. effective September 30, 2009.

Provisions for the sale, disposition, and use of existing stocks of methamidophos products include the following:

1. All sale or distribution by the registrant of existing stocks labeled for use on cotton is prohibited after September 30, 2009, unless that sale or distribution is solely for the purpose of facilitating disposal or export of the product.

2. Existing stocks labeled for use on cotton may be sold and distributed by persons other than the registrant until July 31, 2010.

3. Existing stocks labeled for use on cotton may be used until September 30, 2010, provided that such use complies with the EPA-approved label and labeling of the product.

B. Other Chemicals Addressed in this Order

If the request for voluntary cancellation and use terminations is granted as discussed in this unit, the Agency intends to issue a cancellation order that will allow persons other than the registrant to continue to sell and/or use existing stocks of canceled products until such stocks are exhausted, provided that such use is consistent with the terms of the previously approved labeling on, or that accompanied, the canceled product. The order will specifically prohibit any use of existing stocks that is not consistent with such previously approved labeling. If, as the Agency currently intends, the final cancellation order contains the existing stocks provision just described, the order will be sent only to the affected registrants of the canceled products. If the Agency determines that the final cancellation order should contain existing stocks provisions different than the ones just described, the Agency will publish the cancellation order in the Federal Register.

List of Subjects

Environmental protection, Pesticides and pests.

Dated: September 25, 2008.
Steven Bradbury,
Director, Special Review and Reregistration Division, Office of Pesticide Programs.

[FR Doc. E8-23552 Filed 10-7-08; 8:45 am]

BILLING CODE 6560-50-S